DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Data System for Organ Procurement and Transplantation Network. OMB No. 0915-0184- Revision.

Abstract: The operation of the Organ Procurement and Transplantation Network (OPTN) necessitates certain recordkeeping and reporting requirements in order to perform the functions related to organ transplantation under contract to HHS. This is a request for a revision of the current recordkeeping and reporting requirements associated with the OPTN membership application requirements. The proposed data collection includes information pertinent to OPTN membership eligibility and designation, transplant program eligibility requirements to receive organs for transplantation, and changes in OPTN transplant member personnel. These data will be used by HRSA in monitoring the contracts for the OPTN and the Scientific Registry of Transplant Recipients (SRTR) and in carrying out other statutory responsibilities.

Need and Proposed Use of the Information: Information is needed to collect and review submission of application materials and determine eligibility for membership in the OPTN, to monitor compliance of member organizations with OPTN rules and requirements, and to ensure patient safety.

Likely Respondents: Transplant programs, organ procurement organizations, histocompatibility laboratories, medical scientific organizations, and public organizations.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours:

Section/activity | Number of respondents | Number of responses per respondent | Total responses | Average burden per response (in hours) | Total burden hours
121.3(b)(2) OPTN membership and application requirements | 20 | 3 | 60 | 8 | 480
121.3 Application for Non-Institutional Members | 20 | 1 | 20 | 8 | 160
121.3(b)(4) Appeal for OPTN Membership | 2 | 1 | 2 | 3 | 6
121.9(b) Designated Transplant Program Requirements | 3 | 1 | 3 | 8 | 24
121.3 Personnel Change Application | 360 | 2 | 720 | 8 | 5,760
121.9(d) Appeal for designation | 2 | 1 | 2 | 6 | 12
Total | 407 |  |  |  | 6,442

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: November 12, 2013.
Bahar Niakan,
Director, Division of Policy and Information Coordination.

[FR Doc. 2013-27802 Filed 11-19-13; 8:45 am]

BILLING CODE 4165-15-P